DEPARTMENT OF DEFENSE

Office of the Secretary

[Transmittal No. 22-0Q]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0Q.

Dated: August 5, 2024.
Aaron T. Siegel,
Alternate OSD Federal Register Liaison Officer, Department of Defense.

Transmittal No. 22-0Q

REPORT OF ENHANCEMENT OR UPGRADE OF SENSITIVITY OF TECHNOLOGY OR CAPABILITY (SEC. 36(B)(5)(C), AECA)

(i) Purchaser: Republic of Poland

(ii) Sec. 36(b)(1), AECA Transmittal No.: 20-09

Date: March 4, 2020

Military Department: Army

Funding Source: National Funds

(iii) Description: On March 4, 2020, Congress was notified by Congressional certification transmittal number 20-09, of the possible sale, under Section 36(b)(1) of the Arms Export Control Act, of one hundred eighty (180) Javelin missiles and seventy-nine (79) Javelin Command Launch Units (CLUs). Also included were Basic Skill Trainers (BST), Missile Simulation Rounds (MSR), Battery Coolant Units (BCU), tool kits, modified 2-level maintenance parts, training, U.S. Government and contractor technical assistance, transportation and other related elements of logistics support. The estimated total cost was $100 million. Major Defense Equipment (MDE) constituted $75 million of this total.

This transmittal notifies the inclusion of an additional four hundred ninety (490) Javelin missiles; and fifty (50) Javelin Light Weight Command Launch Units (LWCLU) (MDE). These non-MDE items are also included: Javelin LWCLU Basic Skills Trainers; Javelin Outdoor Trainers; Missile Simulation Rounds; System Integration and Check out; Javelin Restricted Interactive Electronic Technical Manual (IETM); Javelin Operator Manual, and Technical Assistance (TAGM); tools; Javelin Gunner Training; Ammunition Technical Officer Training (ATO); and Javelin Maintenance Training. The estimated value of the additional MDE items is $125 million, and the estimated value of the additional non-MDE items is $25 million. The revised total estimated MDE value is $200 million, and the revised total case value is $250 million.

(iv) Significance: This proposed sale of additional Javelin systems will help Poland build its long-term defense capacity to defend its sovereignty and territorial integrity in order to meet its national defense requirements and improve its interoperability with U.S. and NATO forces.

(v) Justification: This proposed sale will support the foreign policy and national security of the United States by improving the security of a NATO ally and partner nation, which is an important force for peace, political stability, and economic progress in Eastern Europe.

(vi) Sensitivity of Technology: The Sensitivity of Technology Statement contained in the original notification applies to items reported here.

(vii) Date Report Delivered to Congress: November 2, 2022

[FR Doc. 2024-17589 Filed 8-7-24; 8:45 am]

BILLING CODE 6001-FR-P